DEPARTMENT OF THE INTERIOR

National Park Service

[NPS-WASO-NAGPRA-NPS0038629; PPWOCRADN0-PCU00RP14.R50000]

Notice of Inventory Completion: U.S. Army Corps of Engineers, Omaha District, and Hood Museum of Art, Dartmouth College, Hanover, NH

AGENCY: National Park Service, Interior.

ACTION: Notice.

SUMMARY: In accordance with the Native American Graves Protection and Repatriation Act (NAGPRA), the U.S. Army Corps of Engineers, Omaha District, and the Hood Museum of Art, Dartmouth College, Hanover, NH has completed an inventory of human remains and has determined that there is a cultural affiliation between the human remains and Indian Tribes or Native Hawaiian organizations in this notice.

DATES: Repatriation of the human remains in this notice may occur on or after October 3, 2024.

ADDRESSES: Ms. Livia Taylor, U.S. Army Corps of Engineers, Omaha District, ATTN: CENWO-PMA-C, 1616 Capitol Avenue, Omaha, NE 68102, telephone (402) 995-2434, email livia.a.taylor@usace.army.mil and Dr. Jami C. Powell, Associate Director of Curatorial Affairs & Curator of Indigenous Art, Hood Museum of Art, 6 East Wheelock Street Hanover, NH 03755, telephone (603) 646-2822, email Hood.NAGPRA@dartmouth.edu.

SUPPLEMENTARY INFORMATION: This notice is published as part of the National Park Service's administrative responsibilities under NAGPRA. The determinations in this notice are the sole responsibility of the U.S. Army Corps of Engineers, Omaha District, and additional information on the determinations in this notice, including the results of consultation, can be found in its inventory or related records. The National Park Service is not responsible for the determinations in this notice.

Abstract of Information Available

Human remains representing, at least, one individual were removed from Buffalo County, SD. The human remains include one individual that was removed from the Truman site (39BF224). The site was first documented in 1956 by Harold Huscher in 1956 as part of the Smithsonian Institution's River Basin Survey project and is part of the Fort Thompson Mounds Archaeological District. Site 39BF224 consists of at least six mounds that were located in two groups and dates to the Woodland period (1500 B.C.-A.D. 900). No known individuals were identified. No associated funerary objects are present.

Human remains representing, at least, two individuals were removed from Buffalo County, SD. The human remains include two individuals that were removed from the McBride II Mounds site (39BF270). The site was first documented in 1958 by Robert Neuman during the Smithsonian Institution's River Basin Survey project and is part of the Fort Thompson Mounds Archaeological District. Site 39BF270 consists of three circular mounds and dates to the Woodland period (1500 B.C.-A.D. 900). No known individuals were identified. No associated funerary objects are present.

Human remains representing, at least, two individuals were removed from Campbell County, SD. The human remains include two individuals that were removed from the Anton Rygh site (39CA4). During the summers of 1965, 1966, 1968, 1969, 1970, and 1973, human remains were removed from site 39CA4 under the direction of William Bass. Site 39CA4 is a large, multi-component earth lodge village, part of the Plains Village Tradition. It is a fortified village site covering around 11-12 acres. At least two occupations are suggested by archeological evidence. The first occupation dates to the Extended Middle Missouri period (A.D. 1000-1500), while the second occupation dates to the Extended Coalescent (A.D. 1500-1675), and Post Contact Coalescent (A.D. 1675-1780) periods. No known individuals were identified. No associated funerary objects are present.

Human remains, representing, at minimum five individuals were removed from Sully County, SD. The human remains include two adults and three infants. The Sully site was excavated in by William Bass and crews from the Smithsonian Institution River Basin Surveys (in 1957, 1958, and 1961) and KU (in 1962). Following excavation, the burial remains were transferred to the Smithsonian Institution and examined by Bass, who served as physical anthropologist for the Smithsonian Institution River Basin Surveys. The Sully site was one of the largest identified Arikara villages and contained four distinct cemeteries. The site dates to A.D. 1477-1678. No known individuals were identified. No associated funerary objects are present.

No known substances were used to treat the Ancestors described in this notice.

Cultural Affiliation

Based on the information available and the results of consultation, cultural affiliation is reasonably identified by the geographical location or acquisition history of the human remains described in this notice.

Determinations

The U.S. Army Corps of Engineers, Omaha District has determined that:

• The human remains described in this notice represent the physical remains of 10 individuals of Native American ancestry.

• There is a connection between the human remains described in this notice and the Three Affiliated Tribes of the Fort Berthold Reservation, North Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 3, 2024. If competing requests for repatriation are received, the U.S. Army Corps of Engineers, Omaha District must determine the most appropriate requestor prior to repatriation. Requests for joint repatriation of the human remains are considered a single request and not competing requests. The U.S. Army Corps of Engineers, Omaha District is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19685 Filed 8-30-24; 8:45 am]

BILLING CODE 4312-52-P